ENVIRONMENTAL PROTECTION AGENCY

[FRL-9986-43-OAR]

Clean Air Act Advisory Committee; Notice of Charter Renewal

AGENCY: Environmental Protection Agency (EPA).

ACTION: Notice of charter renewal.

Notice is hereby given that the Environmental Protection Agency (EPA) has determined that, in accordance with the provisions of the Federal Advisory Committee Act (FACA), 5 U.S.C. App.2, the Clean Air Act Advisory Committee (CAAAC) is a necessary committee which is in the public interest. Accordingly, the CAAAC is being reinstated for a two-year period. The purpose of the CAAAC is to provide advice and recommendations to the EPA Administrator on policy issues associated with implementation of the Clean Air Act. Inquiries may be directed to Larry Weinstock, CAAAC Designated Federal Officer, U.S. EPA, 1200 Pennsylvania Avenue NW (Mail Code 6103A), Washington, DC 20460, or by email to weinstock.larry@epa.gov.

Dated: November 5, 2018.
William L. Wehrum,
Assistant Administrator, Office of Air and Radiation.

[FR Doc. 2018-24710 Filed 11-9-18; 8:45 am]

BILLING CODE P